DEPARTMENT OF ENERGY

Federal Energy Regulatory Commission

[Docket No. EC00-53-000, et al.]

Black River Limited Partnership, et al. Electric Rate and Corporate Regulation Filings

February 16, 2000.

Take notice that the following filings have been made with the Commission:

1. Black River Limited Partnership

[Docket No. EC00-53-000]

Take notice that on February 16, 2000, pursuant to Section 203 of the Federal Power Act (FPA), 16 U.S.C. § 824b (1998) and Part 33 of the Regulations of the Federal Energy Regulatory Commission (Commission), 18 CFR 33 et seq., Black River Limited Partnership (BRLP) filed a supplement to its “Application for Approval of Disposition of Jurisdictional Facilities,” filed on January 31, 2000 (January 31st Application) in the above-referenced proceeding. The supplement to the January 31st Application is being submitted for purposes of providing certain agreements pursuant to which BRLP will enter into the sale and lease transactions with respect to the Fort Drum Project.

BRLP also has requested that the Commission find that it will no longer be deemed to be a “public utility” as such term is defined under Section 201 of the FPA upon consummation of the sale and lease transactions. BRLP has requested a shortened notice period and expedited consideration of the application.

Comment date: February 28, 2000, in accordance with Standard Paragraph E at the end of this notice.

2. Baltimore Gas and Electric Company, Calvert Cliffs, Inc., Constellation Generation, Inc. and Constellation Power Source, Inc.

[Docket No. EC00-57-000]

Take notice that on February 11, 2000, Baltimore Gas and Electric Company, Calvert Cliffs, Inc., Constellation Generation, Inc., and Constellation Power Source, Inc. (collectively Joint Applicants) submitted for filing, pursuant to Section 205 of the Federal Power Act, and Part 35 of the Commission's regulations (18 CFR Part 35), an Application for authorization to make sales at market-based rates, for certain waivers and blanket authorizations, for cancellation of code of conduct, and for acceptance of interconnection agreements.

Comment date: March 13, 2000, in accordance with Standard Paragraph E at the end of this notice.

3. Kansas City Power & Light Company

[Docket No. ER94-1045-000]

Take notice that on February 10, 2000, Kansas City Power & Light Company (KCP&L) informed the Commission that it was rescinding a previously imposed prohibition on sales to Western Resources, Inc. under its filed market based tariff. KCP&L states that it has terminated its merger agreement with Western Resources and thus will no longer treat Western Resources as an affiliate under its market-based tariff.

Comment date: March 2, 2000, in accordance with Standard Paragraph E at the end of this notice.

4. EnergyOnline, Inc., First Power, L.L.C. and Merrill Lynch Capital Services, Inc.

[Docket Nos. ER96-138-009, ER97-3580-010 and ER97-830-006]

Take notice that on February 11, 2000, the above-mentioned power marketers filed quarterly reports with the Commission in the above-mentioned proceedings for information only.

5. New York Independent System Operator, Inc.

[Docket Nos. ER97-1523-027, OA97-470-025 and ER97-4234-023]

Take notice that on February 11, 2000, the New York Independent System Operator, Inc. (NYISO) made a compliance filing with respect to whether Hydro-Quebec's (HQ) DC intertie may permit HQ to provide voltage support in the New York Control Area.

Copies of this filing were served on the Commission's Service List in Docket No. ER97-1523-000 et al., and on the respective electric utility regulatory agencies in New York, New Jersey and Pennsylvania.

Comment date: March 3, 2000, in accordance with Standard Paragraph E at the end of this notice.

6. New York Independent System Operator, Inc.

[Docket Nos. ER97-1523-028, OA97-470-026 and ER97-4234-924]

Take notice that on February 11, 2000, the New York Independent System Operator, Inc. filed in response to a portion of the Commission's Order issued January 14, 2000, 90 FERC ¶ 61,045 (2000) (January 14 order).

Comment date: March 3, 2000, in accordance with Standard Paragraph E at the end of this notice.

7. Central Hudson Gas & Electric Corporation, Consolidated Edison Company of New York, Inc., Long Island Light Company, New York State Electric & Gas Corporation, Niagara Mohawk Power Corporation, Power Authority of the State of New York, Orange and Rockland Utilities, Inc. and Rochester Gas and Electric Corporation

[Docket Nos. ER97-1523-029, OA97-470-027 ER97-4234-025, (not consolidated)]

Take notice that on February 11, 2000, the Members of the Transmission Owners Committee of New York State, formerly known as the Member Systems of the New York Power Pool (Member Systems), tendered for filing certain revised tariff sheets to their ISO Open Access Transmission Tariff and ISO Services Tariff. The Member Systems state that these tariff sheets are in compliance with the Commission's January 14, 2000 order in this proceeding. Central Hudson Gas & Electric Corp., et al., 90 FERC ¶ 61,045 (2000). The Member Systems request that the above-referenced tariff sheets become effective on November 18, 1999.

A copy of this filing was served upon all persons on the Commission's official service lists in the captioned proceeding, and the respective electric utility regulatory agencies in New York, New Jersey and Pennsylvania.

Comment date: March 3, 2000, in accordance with Standard Paragraph E at the end of this notice.

8. Pepco Services, Inc.

[Docket No. ER98-3096-006]

Take notice that on January 31, 2000, Pepco Services filed their quarterly report for the quarter ending December 31, 1999, for information only.

9. AI Energy, Inc. and Morgan Stanley Capital Group Inc.

[Docket Nos. ER98-3164-006 and ER94-1384-028]

Take notice that on February 10, 2000, the above-mentioned power marketers filed quarterly reports with the Commission in the above-mentioned proceedings for information only.

10. Sierra Pacific Energy Company

[Docket No. ER00-500-001]

Take notice that on February 10, 2000, Sierra Pacific Energy Company (SPEC) tendered for filing a revision to its FERC Electric Rate Schedule No. 1 specifying the ancillary services it may sell at market-based rates within the California ISO control area. This filing is a requirement imposed by the Commission in its order approving SPEC's request for market rate authority.

Comment date: March 2, 2000, in accordance with Standard Paragraph E at the end of this notice.

11. New York Independent System Operator, Inc., Central Hudson Gas & Electric Corporation, Consolidated Edison Company of New York, Inc., Long Island Light Company, New York State Electric & Gas Corporation, Niagara Mohawk Power Corporation, Power Authority of the State of New York, Orange and Rockland Utilities, Inc., and Rochester Gas and Electric Corporation

[Docket No. ER00-550-002]

Take notice that on February 11, 2000, the Members of the Transmission Owners Committee of New York State, formerly known as the Member Systems of the New York Power Pool (Member Systems), and the New York Independent System Operator, Inc. (NYISO) tendered for filing certain revised tariff sheets to the ISO Open Access Transmission Tariff. The Member Systems and the NYISO state that these tariff sheets are in compliance with the Commission's January 12, 2000 order in this proceeding. New York Independent System Operator, Inc. et al., 90 FERC ¶ 61,015 (2000).

The Member Systems and the NYISO request that the above-referenced tariff sheets become effective on November 18, 1999.

A copy of this filing was served upon all persons on the Commission's official service list in the captioned proceeding, and the respective electric utility regulatory agencies in New York, New Jersey and Pennsylvania.

Comment date: March 3, 2000, in accordance with Standard Paragraph E at the end of this notice.

12. PJM Interconnection, L.L.C.

[Docket No. ER00-941-000]

Take notice that on February 8, 2000, PJM Interconnection, L.L.C. supplemented its filing in this docket to more clearly set forth the method by which Interconnection Customers that have cost responsibility for the construction of transmission facilities or upgrades necessary to accommodate their Interconnection Requests will be allocated Incremental Fixed Transmission Rights.

PJM requests an effective date of April 9, 2000.

Copies of this filing were served upon all PJM Members, the electric regulatory commissions in the PJM control area, and all parties to this proceeding.

Comment date: February 29, 2000, in accordance with Standard Paragraph E at the end of this notice.

13. Bangor Hydro-Electric Company

[Docket No. ER00-988-000]

Take notice that on February 11, 2000, Bangor Hydro-Electric Company (Bangor Hydro), tendered for filing an amendment to its December 30, 1999 filing of long-term service agreement with Morgan Stanley Capital Group, Inc., entered into pursuant to Bangor Hydro's market-based rate authority.

Bangor Hydro requests an effective date of March 1, 2000 for the agreement.

Comment date: March 3, 2000, in accordance with Standard Paragraph E at the end of this notice.

14. Dynegy Power Marketing, Inc.

[Docket No. ER00-1109-000]

Take notice that on February 8, 2000, Dynegy Power Marketing, Inc., tendered for filing proposed changes in its FERC Electric Service Tariff No. 1.

The filing amends certain language contained in the revised market-based rate schedule dated January 14, 2000.

Copies of the filing were served upon all persons designated on the official service list compiled by the Secretary in this proceeding.

Comment date: February 29, 2000, in accordance with Standard Paragraph E at the end of this notice.

15. Mississippi Power Company

[Docket No. ER00-1575-000]

Take notice that on February 8, 2000, Mississippi Power Company (MPC), filed proposed changes to Rates Schedule MRA-18 of FERC Electric Tariff, First Revised Volume No. 1 (Tariff) of Mississippi Power Company. The proposed changes will provide a rate decrease to all customers under the Tariff. In addition, the filing proposes to revise the provisions of the Tariff for terminating service at any given delivery point and provides for a moratorium on unilateral changes in rates under the Tariff until January 1, 2002.

MPC has requested an effective date of January 1, 2000. The filing also contains corresponding Settlement Agreement and Statement of Consents for each of the customers served under the Tariff.

The rate decrease is being filed as a result of agreements reached between each of the customers under the Tariff and MPC, which agreements are set forth in the separate Settlement Agreement and Statement of Consents between each customer and MPC.

Copies of the filing were provided to each of the customers under the Tariff, to the Mississippi Public Service Commission, and to the Mississippi Public Utilities Staff.

Comment date: February 29, 2000, in accordance with Standard Paragraph E at the end of this notice.

16. Niagara Mohawk Power Corporation and Potomac Electric Power Company

[Docket Nos. ER00-1590-000 and ER00-1596-000]

Take notice that on February 10, 2000 the above-mentioned affiliated power producers and/or public utilities filed their quarterly reports for the quarter ending December 31, 1999.

Comment date: March 7, 2000, in accordance with Standard Paragraph E at the end of this notice.

17. Baltimore Gas and Electric Company, Calvert Cliffs, Inc., Constellation Enterprises, Inc. and Constellation Generation, Inc.

[Docket No. ER00-1598-000]

Take notice that on February 11, 2000, Baltimore Gas and Electric Company (BGE), Calvert Cliffs, Inc. (CCI), Constellation Enterprises, Inc. and Constellation Generation, Inc. (Constellation Generation) (collectively, the Applicants) submitted for filing, pursuant to Section 203 of the Federal Power Act, and Part 33 of the Commission's regulations, an Application for authorization to transfer certain jurisdictional transmission facilities as part of the transfer of BGE's generating plants to its affiliates, Constellation Generation and CCI.

Comment date: March 3, 2000, in accordance with Standard Paragraph E at the end of this notice.

18. New England Power Pool

[Docket No. ER00-1599-000]

Take notice that on February 11, 2000, the New England Power Pool (NEPOOL) Participants Committee submitted two revised Market Rules and Procedures (the Market Rules), the proposed deletion of two other Market Rules and revisions and deletions of several relevant appendices to the Market Rules, which collectively remove from the Market Rules all mention of the Operable Capability Market in accordance with NEPOOL's proposed elimination of that Market as set forth in the Fiftieth Agreement Amending Restated NEPOOL Agreement filed with the Commission on December 30, 1999 in Docket No. ER00-985-000.

The NEPOOL Participants Committee states that copies of these materials were sent to all participants in the New England Power Pool, the New England state governors and regulatory commissions.

Comment date: March 3, 2000, in accordance with Standard Paragraph E at the end of this notice.

19. Montaup Electric Company

[Docket No.ER00-1556-000]

Take notice that on February 8, 2000, Montaup Electric Company (Montaup), tendered for filing a fully executed Service Agreement for Non-Firm Point-To-Point Transmission Service (Service Agreement) between Montaup and H.Q. Energy Services (US), Inc. (HQ).

Montaup requests a waiver of the 60 day notice requirement and requests an effective date of February 8, 2000, the day on which it is being filed.

Comment date: February 29, 2000, in accordance with Standard Paragraph E at the end of this notice.

20. California Independent System Operator Corporation

[Docket No. ER00-1576-000]

Take notice that the California Independent System Operator Corporation, on February 8, 2000, tendered for filing a Participating Generator Agreement between the ISO and Fresno Cogeneration Partners, LP for acceptance by the Commission.

The ISO states that this filing has been served on Fresno Cogeneration Partners, LP and the California Public Utilities Commission.

The ISO is requesting waiver of the 60-day notice requirement to allow the Participating Generator Agreement to be made effective February 8, 2000.

Comment date: February 29, 2000, in accordance with Standard Paragraph E at the end of this notice.

21. PECO Energy Company

[Docket No. ER00-1577-000]

Take notice that on February 8, 2000, PECO Energy Company (PECO), tendered for filing under Section 205 of the Federal Power Act, 16 U.S.C. S 792 et seq., an Agreement dated January 12, 2000 with H.Q. Energy Services (U.S.) Inc. (HQUS) under PECO's FERC Electric Tariff Original Volume No. 1 (“Tariff”).

PECO requests an effective date of January 12, 2000, for the Agreement.

PECO states that copies of this filing have been supplied to H.Q. Energy Services (U.S.) Inc. and to the Pennsylvania Public Utility Commission.

Comment date: February 29, 2000, in accordance with Standard Paragraph E at the end of this notice.

22. California Independent System Operator Corporation

[Docket No. ER00-1578-000]

Take notice that the California Independent System Operator Corporation, on February 8, 2000, tendered for filing a Meter Service Agreement for ISO Metered Entities between the ISO and Fresno Cogeneration Partners, LP for acceptance by the Commission.

The ISO states that this filing has been served on Fresno Cogeneration Partners, LP and the California Public Utilities Commission.

The ISO is requesting waiver of the 60-day notice requirement to allow the Meter Service Agreement for ISO Metered Entities to be made effective January 18, 2000.

Comment date: February 29, 2000, in accordance with Standard Paragraph E at the end of this notice.

23. Public Service Company of Oklahoma

[Docket No. ER00-1579-000]

Take notice that on February 8, 2000, Public Service Company of Oklahoma (PSO) tendered for filing Amendment No. 1 to the Contract for Electric Service (Contract) between PSO and Collinsville Municipal Authority, Collinsville, Oklahoma (Collinsville). Amendment No.1 provides for a new point of delivery.

PSO requests an effective date of January 30, 2000 and, accordingly, seeks waiver of the Commission's notice requirements. Copies of the filing have been served on Collinsville and the Oklahoma Corporation Commission.

Comment date: February 29, 2000, in accordance with Standard Paragraph E at the end of this notice.

24. Cinergy Services, Inc.

[Docket No. ER00-1580-000]

On February 8, 2000, Cinergy Services, Inc. (Cinergy), on behalf of its affiliated Operating Companies, The Cincinnati Gas & Electric Company (CG&E) and PSI Energy, Inc. (PSI) (collectively the Cinergy Operating Companies), tendered for filing a Reservation Letter between Cinergy and the City of Piqua, Ohio (Piqua), which specifies the understanding between the Cinergy Operating Companies and Piqua concerning the manner in which service previously contracted and reserved under CG&E's Rate Schedule FERC No. 48 and PSI's Rate Schedule FERC No. 31 will be provided by the Cinergy Operating Companies for the remaining years of service for those transactions.

Cinergy requests an effective date of February 9, 2000, one day after filing, for its Reservation Letter.

Cinergy states that it has served a copy of its filing upon the City of Piqua, Ohio.

Comment date: February 29, 2000, in accordance with Standard Paragraph E at the end of this notice.

25. Arizona Public Service Company

[Docket No. ER00-1581-000]

Take notice that on February 8, 2000, Arizona Public Service Company, tendered for filing Cancellation of Off Season Power Sale Agreement between Arizona Public Service Company (APS or Company) and the City of Vernon (Vernon) (APS-FERC Rate Schedule No. 228), effective date June 29, 1996 by order dated May 30, 1996.

Effective date is at midnight April 30, 2000.

Comment date: February 29, 2000, in accordance with Standard Paragraph E at the end of this notice.

26. Public Service Company of Oklahoma

[Docket No. ER00-1582-000]

Take notice that on February 8, 2000, Public Service Company of Oklahoma (PSO) submitted for filing Amendment No. 1 to the Contract for Electric Service (Contract) between PSO and Collinsville Municipal Authority, Collinsville, Oklahoma (Collinsville). Amendment No. 1 provides for a new point of delivery.

PSO requests an effective date of January 30, 2000 and, accordingly, seeks waiver of the Commission's notice requirements.

Copies of the filing have been served on Collinsville and the Oklahoma Corporation Commission.

Comment date: February 29, 2000, in accordance with Standard Paragraph E at the end of this notice.

27. PJM Interconnection, L.L.C.

[Docket No. ER00-1607-000]

Take notice that on February 11, 2000, PJM Interconnection, L.L.C. (PJM), tendered for filing 8 executed service agreements for network integration transmission service under state required retail access programs and for point-to-point transmission service under the PJM Open Access Transmission Tariff.

Copies of this filing were served upon the parties to the service agreements.

Comment date: March 3, 2000, in accordance with Standard Paragraph E at the end of this notice.

28. Southern Company Services, Inc.

[Docket No.ER00-1608-000]

Take notice that on February 11, 2000, Southern Company Services, Inc. (SCS), acting on behalf of Alabama Power Company (APC), filed an Interconnection Agreement (IA) by and between APC and Tenaska Alabama Partners, L.P. (Tenaska Alabama). The IA will interconnect Tenaska Alabama's generating facility to be located near Billingsley, Alabama in Autauga County to APC's electric system.

An effective date of February 14, 2000 has been requested.

Comment date: March 3, 2000, in accordance with Standard Paragraph E at the end of this notice.

Standard Paragraphs

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

David P. Boergers,
Secretary.

[FR Doc. 00-4353 Filed 2-23-00; 8:45 am]

BILLING CODE 6717-01-P